NUCLEAR REGULATORY COMMISSION

[Docket Nos. 50-334 and 50-412]

Pennsylvania Power Company, Ohio Edison Company, the Cleveland Electric Illuminating Company, the Toledo Edison Company, FirstEnergy Nuclear Operating Company; Notice of Withdrawal of Application for Amendments to Facility Operating Licenses

The U.S. Nuclear Regulatory Commission (the Commission) has granted the request of FirstEnergy Nuclear Operating Company (the licensee) to withdraw its March 11, 2003, application for proposed amendments to Facility Operating License Nos. DPR-66 and NFP-73 for the Beaver Valley Power Station, Unit Nos. 1 and 2 (BVPS-1 and 2), located in Beaver County, Pennsylvania.

The proposed amendment would have revised the BVPS-1 and 2 Technical Specifications (TSs) to include listing of the Westinghouse best-estimate large-break loss-of-cooling accident (LOCA) methodology in TS 6.9.5, “Core Operating Limits Report (COLR),” thereby approving its use in the LOCA accident analysis.

The Commission had previously issued a Notice of Consideration of Issuance of Amendment published in the Federal Register on May 27, 2003 (68 FR 28853). However, by letter dated September 5, 2003, the licensee withdrew the proposed change.

For further details with respect to this action, see the application for amendment dated March 11, 2003, and the licensee's letter dated September 5, 2003, which withdrew the application for license amendment. Documents may be examined, and/or copied for a fee, at the NRC's Public Document Room (PDR), located at One White Flint North, Public File Area O1 F21, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209, or 301-415-4737 or by email to pdr@nrc.gov.

Dated at Rockville, Maryland, this 22nd day of September 2003.
For the Nuclear Regulatory Commission.
Timothy G. Colburn,
Senior Project Manager, Section 1, Project Directorate I, Division of Licensing Project Management, Office of Nuclear Reactor Regulation.

[FR Doc. 03-24478 Filed 9-26-03; 8:45 am]

BILLING CODE 7590-01-P